ENVIRONMENTAL PROTECTION AGENCY

[ER-FRL-6612-8]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 564-7167.

An explanation of the ratings assigned to draft environmental impact statements (EISs) was published in FR dated April 14, 2000 (65 FR 20157).

Draft EISs

ERP No. D-AFS-L39057-OR Rating EC2, Rimrock Ecosystem Restoration Project, To Promote Healthy and Sustainable Watershed Conditions, Implementation, Umatilla National Forest, Heppner Ranger District, Grant, Morrow and Wheeler Counties, OR.

Summary: EPA expressed concerns regarding air quality due to prescribed burning, funding of K-V projects, and roads. EPA requested that the EIS commit to completing restoration projects; describe the smoke management program and provide information on road density.

ERP No. D-AFS-L65365-ID Rating EC2, Swan Flat Timber Sale, Proposal to Cut and Haul Sawtimber, Caribou National Forest, Land Resource Management Plan (LRMP), Montpelier Ranger District, Bear Lake County, ID.

Summary: EPA expressed concerns regarding road obliteration, air quality, harvesting in a roadless area, and beetle infestation. EPA requested clarification and additional information on these issues.

ERP No. D-BLM-K67053-CA Rating EC2, Mesquite Mine Expansion Project, To Expand the Existing Open-Pit, Heap-Leach, and Precious Metal Mine, Federal Mine Plan of Operations Approval, Conditional Use Permits and Reclamation Plan Approval, Imperial County, CA.

Summary: EPA expressed concerns based on the project's predicted long-term pit water quality, potential ecological risk, and impacts to waters of the U.S. EPA recommended additional information in the FEIS regarding pit water quality predictions, mitigation, reclamation and bonding, and inclusion of the waste rock sampling and disposal plan and a demonstration of compliance with the Clean Water Act section 404(b)(1) guidelines.

ERP No. D-FRC-E08020-00 Rating EO2, Gulfstream Natural Gas System Project, Construction and Operation, To Provide Natural Gas Transportation Service, AL, MS and FL.

Summary: EPA is concerned that the Gulfstream proposal would impact forested wetlands and marine hard “live” bottoms along the proposed pipeline route. Hard bottoms are essentially “unmitigatable”. EPA also suggested that only one of the two competing alignments across the Gulf of Mexico (separate EISs) should be potentially certificated by FERC (Gulfstream vs. Buccaneer) or only one larger joint effort with modification and further mitigation.

ERP No. DR-BLM-K65213-NV Rating LO, Black Rock Desert area. Minor issues were raised concerning construction of fee collection stations and monitoring for OHV impacts.

Summary: EPA expressed a lack of objections to BLM's preferred management plan for the Black Rock Desert area. Minor issues were raised concerning construction of fee collection stations and monitoring for OHV impacts.

ERP No. DR-FAA-K51037-CA Rating EC2, Metropolitan Oakland International Airport (MOIA), Airport Development Plan (ADP), Reevaluation of the Forecasts and Planning Assumptions in the ADP, Airport Layout Plan Approval, Funding and COE section 404 and 10 Permits Issuance, Port of Oakland, Alameda County, CA.

Summary: EPA expressed concerns on cumulative noise, air quality and wetland impacts; impacts to areas regulated under section 10 of the Rivers and Harbors Act; and environmental justice impacts. EPA also expressed concern with the narrow range of alternatives and requested that one alternative eliminated from consideration be analyzed in detail.

Final EISs

ERP No. F-AFS-E65052-KY Daniel Boone National Forest, Implementation, Salvage Harvest Due to 1998 Storm Damage Timber, McCreary and Pulaski County, KY.

Summary: EPA remains concerned about degradation of the Rock Creek and Marsh Creek waterways from erosion and siltation associated with road building and forestry activities in these areas. Adherence to Best Management Practices and preventing use of off-highway vehicles in these areas should be vigorously implemented and strictly monitored to ensure that water quality and in-stream habitat are fully protected.

ERP No. F-BIA-K65223-CA Cortina Integrated Solid Waste Management Project, Development and Operation, Approval of Land Lease Cortina Indian Rancheria of Wintin Indians, Colusa County, CA.

Summary: The Final EIS addressed the concerns raised by EPA on the Draft EIS. EPA requested that commitments and mitigation measures in the FEIS be reflected in BIA's Record of Decision. Because the project is on tribal land, EPA noted its continuing regulatory and/or permit role under several federal laws, including the Clean Water Act, the Clean Air Act, and the Resource Conservation and Recovery Act.

ERP No. F-NPS-J61102-00 Yellowstone and Grand Teton National Parks and John D. Rockefeller, Jr. Memorial Parkway Winter Use Plan, Implementation, Fremont County, ID, Gallatin and Park Counties, MT and Park and Teton Counties, WY.

Summary: EPA's review has concluded that the preferred alternative for this project would adequately remedy the on-going significant impacts to environmental resources and human health in these Parks. The document provides a reasonable range of alternatives and discloses, in detail, the environmental effects of each alternative.

ERP No. F-SFW-K99029-NV Clark County Multiple Species Habitat Conservation Plan, Issuance of a Permit to Allow Incidental Take-of-79 Species, Clark County, NV.

Summary: No formal comment letter was sent to the preparing agency.

ERP No. FS-COE-K32046-CA Port of Los Angeles Channel Deepening Project, To Improve Navigation and Disposal of Dredge Material for the Inner Harbor Channels, Los Angeles County, CA.

Summary: EPA's review found the Final Supplemental EIS to be generally responsive to concerns EPA raised on the Draft Supplemental EIS. EPA provided comments on toxic air contaminants (hazardous air pollutants) associated with the project and the suitability of dredged materials for aquatic or ocean disposal. EPA asked the Corps to explore the feasibility of reasonable mitigation measures for reducing emissions of air toxics.

Dated: November 14, 2000.
Joseph C. Montgomery,
Director, NEPA Compliance Division, Office of Federal Activities.

[FR Doc. 00-29528 Filed 11-16-00; 8:45 am]

BILLING CODE 6560-50-U